DEPARTMENT OF HEALTH AND HUMAN SERVICES

Administration for Children and Families

Submission for OMB Review; Survey of Head Start Grantees on Training and Technical Assistance (New Collection)

AGENCY: Office of Planning, Research, and Evaluation; Administration for Children and Families; HHS.

ACTION: Request for public comment.

SUMMARY: The Administration for Children and Families (ACF) at the U.S. Department of Health and Human Services (HHS) seeks approval to conduct a statistically representative survey of directors and managers/coordinators from Head Start grantee organizations regarding their access to and use of training and technical assistance (T/TA) from multiple sources, including ACF's Early Childhood Training and Technical Assistance system. The purpose of the data collection is to inform ACF on three aspects of grantee directors and managers/coordinators T/TA experience: (1) Search and selection of T/TA; (2) receipt of T/TA; (3) and potential relationships between T/TA received and perceived change in practice.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION: Description: The Head Start Directors Wave 1 survey addresses the grantee's organizational characteristics, how the organization defines and diffuses T/TA, T/TA received and requested in the prior program year, and overall organizational goals and reflections on T/TA efforts for the current year. The Head Start Managers/Coordinators Wave 2 survey addresses four distinct domains of Head Start activity: (1) Program management and fiscal operations; (2) education; (3) parent and family engagement; and (4) health and wellness. The Wave 2 survey addresses how these activity domains are structured and staffed with the grantee organization, the types of T/TA and resources sought and used to improve practice in each domain, perceptions of usefulness of recent T/TA received, and T/TA priorities for the next program year.

Respondents: Head Start Directors, Head Start Managers/Coordinators.

Annual Burden Estimates
Instrument | Total/annual number of respondents | Number of responses per respondent | Average burden hours per response | Annual burden hours
Wave 1 Head Start Director Survey | 1,200 | 1 | .75 | 900
Wave 2 Head Start Managers/Coordinator Survey | 860 | 1 | .75 | 644

Estimated Total Annual Burden Hours: 1,544.

Authority: The Statutory Authority for this data collection is: Section 640(a)(2)(D) and section 649 of the Improving Head Start for School Readiness Act of 2007.

Mary B. Jones,
ACF/OPRE Certifying Officer.

[FR Doc. 2019-12783 Filed 6-17-19; 8:45 am]

BILLING CODE 4184-40-P